ENVIRONMENTAL PROTECTION AGENCY

[FRL-9159-8]

Agency Information Collection Activities; OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 2173.03; Reporting Requirements under EPA's Green Power Partnership and Combined Heat and Power Partnership; was approved on 05/07/2010; OMB Number 2060-0578; expires on 06/30/2012; Approved with change.

EPA ICR Number 2343.03; Focus Group Research for Fuel Economy Label Designs for Advanced Technology Vehicles (Phase 3); was approved on 05/13/2010; OMB Number 2060-0632; expires on 08/31/2010; Approved with change.

EPA ICR Number 2368.01; Questionnaire for Steam Electric Power Generating Effluent Guidelines (New); was approved on 05/20/2010; OMB Number 2040-0281; expires on 05/31/2013; Approved with change.

EPA ICR Number 2207.03; Exchange Network Grants Progress Report (Renewal); was approved on 05/27/2010; OMB Number 2025-0006; expires on 11/30/2011; Approved without change.

EPA ICR Number 2240.03; NESHAP for Area Sources: Polyvinyl Chloride and Copolymer Production, Primary Copper Smelting, Secondary Copper Smelting, and Primary Nonferrous Metals—Zinc, Cadmium, and Beryllium (Renewal); 40 CFR part 63, subparts A, DDDDDDD, EEEEEEE, FFFFFFF, and GGGGGGG, was approved on 05/27/2010; OMB Number 2060-0596; expires on 05/31/2013; Approved without change.

EPA ICR Number 2046.05; NESHAP for Mercury Cell Chlor-Alkali Plants; 40 CFR part 63, subpart A and 40 CFR part 63, subpart IIIII; was approved on 05/27/2010; OMB Number 2060-0542; expires on 05/31/2013; Approved without change.

Comment Filed

EPA ICR Number 1648.07; Requirements for Control Technology Determinations from Major Sources in Accordance with Clean Air Act Section 112(j) (Proposed Rule); in 40 CFR part 63; OMB filed comment on 05/21/2010.

Dated: June 1, 2010.
John Moses,
Director, Collections Strategies Division.

[FR Doc. 2010-13622 Filed 6-4-10; 8:45 am]

BILLING CODE 6560-50-P